DEPARTMENT OF THE TREASURY

Bureau of Alcohol, Tobacco and Firearms

27 CFR Part 9

[Notice No. 967]

RIN 1512-AC85

Proposed Alexandria Lakes Viticultural Area (2002R-152P)

AGENCY: Bureau of Alcohol, Tobacco and Firearms (ATF), Department of the Treasury.

ACTION: Notice of proposed rulemaking (NPRM).

SUMMARY: ATF has received a petition to establish a viticultural area in Douglas County, Minnesota, to be named “Alexandria Lakes.” We invite comments on this petition.

DATES: We must receive written comments by March 24, 2003.

ADDRESSES: You may send comments to any of the following addresses—

• Chief, Regulations Division, Bureau of Alcohol, Tobacco and Firearms, P.O. Box 50221, Washington, DC 20091-0221 (Attn: Notice No. 967);

• 202-927-8525 (facsimile);

• nprm@atfhq.atf.treas.gov (e-mail);

• http://www.atf.treas.gov (online). A comment form is available. At this site, select “Regulations,” then “Notices of proposed rulemaking (Alcohol).” Finally, select “Send comments via e-mail” under this notice number.

See the Public Participation section of this notice for specific requirements.

FOR FURTHER INFORMATION CONTACT: Lisa M. Gesser, Regulations Division, Bureau of Alcohol, Tobacco and Firearms, 650 Massachusetts Avenue, NW., Washington, DC 20226 (202-927-9347).

SUPPLEMENTARY INFORMATION:

Background on Viticultural Areas

ATF's Authority

The Federal Alcohol Administration Act (FAA Act) at 27 U.S.C. 205(e) requires that alcohol beverage labels provide the consumer with adequate information regarding a product's identity, while prohibiting the use of deceptive information on such labels. The FAA Act also authorizes ATF to issue regulations to carry out the Act's provisions.

Regulations in 27 CFR Part 4, Labeling and Advertising of Wine, allow the establishment of definitive viticultural areas and the use of their names as appellations of origin on wine labels and in wine advertisements. Title 27 CFR Part 9, American Viticultural Areas, contains the list of approved viticultural areas.

Definition of an American Viticultural Area

Title 27 CFR 4.25a(e)(1) defines an American viticultural area as a delimited grape-growing region distinguishable by geographic features whose boundaries have been delineated in subpart C of part 9.

Requirements

Section 4.25a(e)(2) outlines the procedure for proposing an American viticultural area. Anyone interested may petition ATF to establish a grape-growing region as a viticultural area. The petition must include—

• Evidence of local and/or national name recognition of the proposed viticultural area as the area specified in the petition;

• Historical or current evidence that the boundaries of the proposed viticultural area are as specified in the petition;

• Evidence of geographical characteristics, such as climate, soils, elevation, physical features, etc., that distinguish the proposed area from surrounding areas;

• A description of the specific boundaries of the proposed viticultural area, based on features reflected on maps that are approved by the United States Geological Survey (USGS) and of the largest applicable scale; and

• A copy or copies of the appropriate USGS-approved map(s) with the boundaries prominently marked.

Impact on Current Wine Labels

If this NPRM is approved, bottlers who use brand names like the name of the viticultural area may be affected. Such bottlers must ensure that their existing products are eligible to use the name of the viticultural area as an appellation of origin. For a wine to be eligible, 85 percent of the grapes in the wine must have been grown within the viticultural area(s). See 27 CFR 4.25a(e)(3).

If the wine is ineligible, the bottler must change the brand name of that wine and obtain approval of the new label. Different rules apply if a permittee labels a wine in this category with a label approved as of July 7, 1986. See 27 CFR 4.39(i).

Alexandria Lakes Petition

ATF has received a petition from Robert G. Johnson on behalf of Carlos Creek Winery, proposing to establish “Alexandria Lakes” as an American viticultural area. The proposed American viticultural area is located in Douglas County, Minnesota and encompasses approximately 17 square miles. Six fresh water lakes surround the area.

Name Evidence

The petitioner submitted the following as evidence that the area is locally and nationally known as Alexandria Lakes:

• The 2002 Official Visitors Guide for the Alexandria Lakes area published by the Alexandria Lakes Area Chamber of Commerce. This guide refers to the area as the “Alexandria Lakes Area.”

• Several brochures that refer to the proposed area as the “Alexandria Lakes Area.”

• A letter from the Alexandria Lake Area Sanitary District referring to the proposed area as the “Alexandria Lake Area.”

Evidence of Boundaries

The petitioner has submitted the following as boundary evidence:

• U.S.G.S. Map (Alexandria West, Minn. 1966 (revised 1994));

• U.S.G.S. Map (Alexandria East, Minn. 1966 (revised 1994));

• U.S.G.S. Map (Lake Miltona West, Minn. 1969); and

• U.S.G.S. Map (Lake Miltona East, Minn. 1969).

The proposed Alexandria Lakes viticultural area is located in Douglas County, Minnesota. The proposed boundaries do not encompass the entire land mass known by that name. According to the petitioner, current viticulture and a unique microclimate limit the boundaries to those proposed. He also indicates that the area's geographic features help define the proposed viticultural area's borders. We will discuss these features further below.

Geologic Features

The petitioner states that glacial activity formed the proposed area at the end of the last ice age, 10,000 years ago. The soil is unique because the glacial activity gouged it from the surrounding areas. The steep glacial erosion produced a geographically isolated area that the region's deepest glacial lakes surround. These lakes are not only the deepest, but by volume, they are largest in the region.

The petitioner states that the most abundant soil found in the petitioned area is of the Nebish-Beltrami association. This association is very unique in that it makes up only 5% of the county. The U.S. Department of Agriculture Soil Conservation Service (USDASCS) defines this soil as deep, well and moderately well drained. The petitioner states that vegetation in the proposed area must survive on poorer soils and must have broader root systems than vegetation grown in the surrounding regions. According to the petitioner, the higher concentration of hardwood trees in the proposed area evidence this.

By contrast, the USDASCS defines the opposing lakeshores' soil, just west and north of the proposed area, as belonging to the Waukon-Flom association, which they describe as poorly drained. The petitioner indicates that these are alluvial wash plains containing heavy lomis soils and low wetlands.

The USDASCS defines the soil associations on the opposing shores just south and east of the proposed areas as belonging to the Arvilla-Sverdrup association. These soils formed in sand or sand and gravel outwash material and are described as excessively drained.

Geographic Features

According to the petitioner, the proposed area's geographic features further distinguish it from surrounding regions. Six fresh-water lakes almost completely surround the proposed area. To the north lies Lake Miltona, which is the largest lake in Douglas County. To the east is Lake Carlos, which is, according to the Alexandria Lakes Area Chamber of Commerce, the largest lake in the Alexandria Lakes chain. South of the border are two small lakes, Lake Louise and Lake Alvin, and a medium size lake, Lake Darling. West lies Lake Ida, which is one of the largest lakes in the area.

Climate

The petitioner provided climate data for the years 1992 through 2001 from the University of Minnesota Meteorological Department's Web site. The data indicates that the proposed area receives on average more precipitation than the surrounding regions. The petitioned area's average precipitation is approximately 23.65 inches per year. By contrast, Osakis, Wadena, and Ashby Counties, which are located east, north, and west, respectively, of the petitioned area, all received between 1 to 3 more inches of precipitation per year. The petitioner states the difference is due to the seasonal southern winds that blow through the petitioned area producing moisture updrafts that result in rain clouds generally north and east of the area.

The petitioner states that the proposed area receives less annual snowfall than the surrounding regions. The petitioned area's average snowfall is approximately 47.67 inches per year. By contrast, Osakis, Wadena, and Ashby, all receive between 4 to 8 more inches of snowfall per year.

According to the petitioner, “the drier climate and lighter snow cover makes for lowered water tables, but watershed flowing from areas to the north and east replenish the water and maintain constant lake water levels.” In addition, the petitioner states that the petitioned area has temperature averages that are generally warmer in the winter and cooler in the summer than those of adjacent areas.

Public Participation

Comments

We request comments from anyone interested. Please support your comments with specific information. Examples include name evidence and data about growing conditions or area boundaries.

Although we do not acknowledge receipt, we will consider your comments if we receive them on or before the closing date. We will consider comments received after the closing date if time permits. We regard all comments as originals.

You may submit comments in any of four ways.

• By mail: You may send written comments to ATF at the address listed in the Addresses section.

• By facsimile: You may submit comments by facsimile transmission to 202-927-8525. Faxed comments must—

(1) Be legible;

(2) Reference this Notice number;

(3) Be on 8½ by 11-inch paper;

(4) Contain a legible, written signature; and

(5) Be five or less pages long. This limitation assures electronic access to our equipment. We will not accept faxed comments that exceed five pages.

• By e-mail: You may e-mail comments to nprm@atfhq.atf.treas.gov. Comments transmitted by electronic-mail must—

(1) Contain your name, mailing address, and e-mail address;

(2) Reference this Notice number on the subject line; and

(3) Be legible when printed on 8½ by 11-inch paper. We will not acknowledge receipt of e-mail.

• Online: We provide a comment form with the online copy of this proposed rule. See the ATF Internet Web site at http://www.atf.treas.gov.

You may also write to the Director to ask for a public hearing. The Director reserves the right to determine, in light of all circumstances, whether a public hearing will be held.

Disclosure

You may inspect copies of the petition, the proposed regulations, the appropriate maps, and any written comments by appointment. The ATF Reading Room, Public and Governmental Affairs, is located in room 6480 at 650 Massachusetts Avenue, NW., Washington, DC 20226. You may also obtain copies at 20 cents per page. If you want to view or request copies of comments, call the ATF librarian at telephone number 202-927-7890.

For your convenience, we will post comments received in response to this Notice on the ATF Web site. All comments posted on our Web site will show the names of commenters but not street addresses, telephone numbers, or e-mail addresses. We may also omit voluminous attachments or material that we consider unsuitable for posting. In all cases, the full comment will be available in the ATF Reading Room. To access online copies of the comments on this rulemaking, visit http://www.atf.treas.gov/ and select “Regulations,” then “Notices of proposed rulemaking (Alcohol).” Next, select “View Comments” under this Notice number. Finally, select “Notice of Proposed Rulemakings Comments” and this Notice number.

Confidentiality

We do not recognize any submitted material as confidential. We will disclose all information that relates to the comments, including the identity of the commenters. Do not enclose in your comments any material you consider confidential or inappropriate for disclosure.

Regulatory Analyses and Notices

Paperwork Reduction Act

We propose no requirement to collect information. Therefore, the provisions of the Paperwork Reduction Act of 1995, 44 U.S.C. 3507, and its implementing regulations, 5 CFR part 1320, do not apply.

Regulatory Flexibility Act

We certify that this regulation will not have a significant economic impact on a substantial number of small entities, including small businesses. The establishment of viticultural areas represents neither ATF endorsement nor approval of the quality of wine produced in the areas. Rather, it allows identification of areas distinct from one another where a given quality, reputation, or other characteristic of the wine produced in the area is essentially attributable to its geographical origin. We believe that the establishment of viticultural areas allows wineries to describe more accurately the origin of their wines to consumers and helps consumers identify the wines they purchase. Thus, any benefit derived from the use of a viticultural area name is the result of the proprietor's efforts and consumer acceptance of wines from that area.

Executive Order 12866

This proposed rule is not a “significant regulatory action” as defined by Executive Order 12866. Therefore, no regulatory assessment is required.

Drafting Information

The principal author of this document is Lisa M. Gesser, Regulations Division, Bureau of Alcohol, Tobacco and Firearms.

List of Subjects in 27 CFR Part 9

Administrative practices and procedures, Consumer protection, Viticultural areas, and Wine.

Authority and Issuance

ATF proposes to amend 27 CFR part 9 as follows:

PART 9—AMERICAN VITICULTURAL AREAS

1. The authority citation for part 9 continues to read as follows:

Authority: 27 U.S.C. 205.

Subpart C—Approved American Viticultural Areas

2. Amend subpart C by adding § 9.177 to read as follows:

§ 9.177 Alexandria Lakes

(a) Name. The name of the viticultural area described in this section is “Alexandria Lakes”.

(b) Approved maps. The appropriate maps for determining the boundary of the Alexandria Lakes viticultural area are the following four U.S.G.S. topographical maps (7.5 minute series 1:24000 scale):

(1) “Alexandria West, Minn.,” 1966, revised 1994.

(2) “Alexandria East, Minn.,” 1966, revised 1994.

(3) “Lake Miltona East, Minn.,” 1969.

(4) “Lake Miltona West, Minn.,” 1969.

(c) Boundaries. The proposed Alexandria Lakes viticultural area is located in Douglas County, Minnesota and is encompassed by 6 fresh water lakes in an area of approximately 17 square miles. The proposed boundaries are as follows:

(1) The beginning point is located on Alexandria West, Minn. map between Lake Carlos and Lake Darling at bench mark (BM) 1366, which is an unmarked bridge on County Road 11, known as the Carlos-Darling Bridge.

(2) The boundary continues along the Carlos-Darling bridge and then northeasterly along the western shore of Lake Carlos on to the Alexandria East, Minn. map.

(3) The boundary continues along the shoreline until the point where the Lake Carlos shoreline parallels an unlabeled road known as County Road 38.

(4) The boundary continues north along County Road 38 until it intersects with an unlabeled road known as County Road 62.

(5) The boundary continues north along County Road 62 on to the Lake Miltona, East, Minn. map and then on to an unlabeled road known as Buckskin Road.

(6) The boundary continues north on Buckskin Road to the point at BM 1411.

(7) From BM 1411, the boundary continues north in a straight line to the south shoreline of Lake Miltona.

(8) The boundary continues generally west along the south shoreline of Lake Miltona on to the Lake Miltona West, Minn. map until the southern shoreline parallels an unlabeled road known as Krohnfeldt Drive.

(9) The boundary continues south and then west along Krohnfeldt Drive until it intersects with an unlabeled road known as County Road 34.

(10) The boundary continues south along County Road 34 until the point where County Road 34 runs parallel to Lake Ida's eastern shoreline.

(11) The boundary continues south along Lake Ida's eastern shoreline then on to the Alexandria West, Minn. map to the point where two unlabeled roads known as Burkey's Lane and Sunset Strip Road intersect.

(12) The boundary continues south along Sunset Strip Road to the point where it intersects with an unlabled road known as County Road 104.

(13) The boundary continues generally east along County Road 104 until it intersects with an unlabeled road known as County Road 34.

(14) The boundary continues east along County Road 34 until it intersects with an unlabeled road known as County Road 11.

(15) The boundary continues east along County Road 11 to the beginning point for the area at BM 1366, known as the Carlos-Darling Bridge.

Signed: January 14, 2003.
Bradley A. Buckles,
Director.

[FR Doc. 03-1527 Filed 1-22-03; 8:45 am]

BILLING CODE 4810-31-P